DEPARTMENT OF THE INTERIOR

National Park Service

[NPS-WASO-NAGPRA-NPS0039328; PPWOCRADN0-PCU00RP14.R50000]

Notice of Intended Disposition: U.S. Department of Agriculture, Forest Service, Chugach National Forest, Anchorage, AK

AGENCY: National Park Service, Interior.

ACTION: Notice.

SUMMARY: In accordance with the Native American Graves Protection and Repatriation Act (NAGPRA), the U.S. Department of Agriculture, Forest Service, Chugach National Forest intends to carry out the disposition of unassociated funerary objects removed from Federal or Tribal lands to the lineal descendants, Indian Tribe, or Native Hawaiian organization with priority for disposition in this notice.

DATES: Disposition of the human remains in this notice may occur on or after February 18, 2025. If no claim for disposition is received by January 16, 2026, the human remains in this notice will become unclaimed human remains.

ADDRESSES: Jeff E. Schramm, Forest Supervisor, Chugach National Forest, Supervisor's Office, 161 E 1st Ave, Door 8, Anchorage, AK 99501, telephone (907) 743-9500, email jeff.schramm@usda.gov.

SUPPLEMENTARY INFORMATION: This notice is published as part of the National Park Service's administrative responsibilities under NAGPRA. The determinations in this notice are the sole responsibility of the Chugach National Forest, and additional information on the human remains in this notice, including the results of consultation, can be found in the related records. The National Park Service is not responsible for the identifications in this notice.

Abstract of Information Available

The 10 unassociated funerary objects items consist of hide pieces, a flaked, flat piece of soft slate or shale, pieces of dried leather fragments (sewn or with sewing holes), and strips of split spruce (joined by a series of knots and twists, fragment of knotted spruce roots, carved wooden slat.

The 10 items were found in 1992 during a Bureau of Indian Affairs (BIA) on-site investigation on Squire Island, Chugach Census Area, Alaska at site SEW-832. SEW-00832 was recorded as an archaeological site which contains both a habitation area under a rock shelter and a burial cave. These artifacts were housed with the BIA until they were transferred to the Chugach National Forest Supervisor's Office on October 25, 2019.

Determinations

The Chugach National Forest has determined that:

• The 10 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The Native Village of Chenega (aka Chenega) and Native Village of Tatitlek have priority for disposition of the cultural items described in this notice.

Claims for Disposition

Written claims for disposition of the human remains in this notice must be sent to the appropriate official identified in this notice under ADDRESSES. If no claim for disposition is received by January 16, 2026, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after February 18, 2025. If competing claims for disposition are received, the Chugach National Forest must determine the most appropriate claimant prior to disposition. Requests for joint disposition of the human remains are considered a single request and not competing requests. The Chugach National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 6, 2025.
Melanie O'Brien,
Manager, National NAGPRA Program.

[FR Doc. 2025-01019 Filed 1-15-25; 8:45 am]

BILLING CODE 4312-52-P